FEDERAL EMERGENCY MANAGEMENT AGENCY

Agency Information Collection Activities: Submission for OMB Review; Comment Request

ACTION: Notice and request for comments.

SUMMARY: The Federal Emergency Management Agency has submitted the following proposed information collection to the Office of Management and Budget for review and clearance in accordance with the requirements of the Paperwork Reduction Act of 1995 (44 U.S.C. 3507).

Title: National Flood Insurance Telephone Response Center (TRC) and Leads Application Program.

Type of Information Collection: New Collection.

OMB Number: 3067-New.

Abstract: The National Flood Insurance Telephone Response Center (TRC) and Leads Application Program was established as part of FEMA Cover America Advertising Campaign in 1995. The TRC is designed to respond to customer inquires about flood insurance, offers to send customers general information on the National Flood Insurance Program (NFIP), refer customers to insurance agents, and inform customers of insurance agents that can write flood insurance policies in the area in which they live.

Affected Public: Individual or Households, and Business or Other For-Profit.

Number of Respondents: 78,448.

Estimated Time per Respondent: 3 minutes, Incoming Callers; 2 minutes Lead Program Application (FEMA Form 81-95); 3 minutes, Outbound Calls.

Estimated Total Annual Burden Hours: 3,915 hours.

Frequency of Response: Monthly.

Comments

Interested persons are invited to submit written comments on the proposed information collection to the Desk Officer for the Federal Emergency Management Agency, Office of Information and Regulatory Affairs, Office of Management and Budget, Washington, DC 20503 within 30 days of the date of this notice.

FOR FURTHER INFORMATION CONTACT: Requests for additional information or copies of the information collection should be made to Muriel B. Anderson, Chief, Records Management Section, Program Services and Systems Branch, Facilities and Services Management Division, Administration and Resource Planning Directorate, Federal Emergency Management Agency, 500 C Street, SW., Room 316, Washington, DC 20472, telephone number (202) 646-2625 or facsimile number (202) 646-3347, or e:mail muriel.anderson@fema.gov.

Dated: August 22, 2001.
Reginald Trujillo,
Branch Chief, Program Services and Systems Branch, Facilities and Services Management Division, Administration and Resource Planning Directorate.

[FR Doc. 01-22103 Filed 8-31-01; 8:45 am]

BILLING CODE 6718-01-P